NUCLEAR REGULATORY COMMISSION

[NRC-2009-0308]

Notice of Issuance of Regulatory Guide

AGENCY: Nuclear Regulatory Commission.

ACTION: Notice of Issuance and Availability of Regulatory Guide 1.28, Revision 4, “Quality Assurance Program Criteria (Design and Construction).”

FOR FURTHER INFORMATION CONTACT: R. A. Jervey, Regulatory Guide Development Branch, Division of Engineering, Office of Nuclear Regulatory Research, U.S. Nuclear Regulatory Commission, Washington, DC 20555-0001, telephone (301) 251-7404 or e-mail Richard.Jervey@nrc.gov.

SUPPLEMENTARY INFORMATION:

I. Introduction

The U.S. Nuclear Regulatory Commission (NRC) is issuing a revision to an existing guide in the agency's “Regulatory Guide” series. This series was developed to describe and make available to the public information such as methods that are acceptable to the NRC staff for implementing specific parts of the agency's regulations, techniques that the staff uses in evaluating specific problems or postulated accidents, and data that the staff needs in its review of applications for permits and licenses.

Revision 4 of Regulatory Guide 1.28, “Quality Assurance Program Criteria (Design and Construction),” was issued with a temporary identification as Draft Regulatory Guide, DG-1215. DG-1215 was titled “Quality Assurance Program Requirements (Design and Construction).” Proposed RG 1.28, Revision 4, extends the scope of the NRC's endorsement to include NQA-1, Part II, which contains amplifying quality assurance (QA) requirements for certain specific work activities that occur at various stages of a facility's life. The work activities include, but are not limited to, management, planning, site investigation, design, computer software use, commercial-grade dedication, procurement, fabrication, installation, inspection, and testing. Appendix A, “Evolution of Quality Assurance Standards and the Endorsing Regulatory Guides,” to RG 1.28 gives an overview and continuation of the history and consolidation of NRC-endorsed standards.

II. Further Information

In July 2009, DG-1215 was published with a public comment period of 60 days from the issuance of the guide. Staff Response to Public Comments on DG-1215 are located in the NRC's Agencywide Documents Access and Management System (ADAMS) under Accession No. ML100160005. The regulatory analysis may be found in ADAMS under Accession No. ML101390560. Electronic copies of Regulatory Guide 1.28, Revision 4 are available through the NRC's public Web site under “Regulatory Guides” at http://www.nrc.gov/reading-rm/doc-collections/.

In addition, regulatory guides are available for inspection at the NRC's Public Document Room (PDR) located at Room O-1F21, One White Flint North, 11555 Rockville Pike, Rockville, Maryland 20852-2738. The PDR's mailing address is USNRC PDR, Washington, DC 20555-0001. The PDR can also be reached by telephone at (301) 415-4737 or (800) 397-4209, by fax at (301) 415-3548, and by e-mail to pdr.resources@nrc.gov.

Regulatory guides are not copyrighted, and NRC approval is not required to reproduce them.

Dated at Rockville, Maryland, this 3rd day of June, 2010.
For the Nuclear Regulatory Commission.
Andrea D. Valentin,
Chief, Regulatory Guide Development Branch, Division of Engineering, Office of Nuclear Regulatory Research.

[FR Doc. 2010-14062 Filed 6-10-10; 8:45 am]

BILLING CODE 7590-01-P